DEPARTMENT OF HOMELAND SECURITY

U.S. Coast Guard

[Docket No. USCG-2017-0618]

National Boating Safety Advisory Council—Input To Support Regulatory Reform of Coast Guard Regulations—New Task

AGENCY: U.S. Coast Guard, Department of Homeland Security.

ACTION: Notice of new task assignment for the National Boating Safety Advisory Council (NBSAC); notice of teleconference meeting.

SUMMARY: The U.S. Coast Guard is issuing a new task to the National Boating Safety Advisory Council (NBSAC). The U.S. Coast Guard is asking NBSAC to help the agency identify existing regulations, guidance, and collections of information (that fall within the scope of the Council's charter) for possible repeal, replacement, or modification. This tasking is in response to the issuance of Executive Orders 13771, “Reducing Regulation and Controlling Regulatory Costs; 13777, “Enforcing the Regulatory Reform Agenda;” and 13783, “Promoting Energy Independence and Economic Growth.” The full Council is scheduled to meet by teleconference on July 21, 2017, to discuss this tasking. This teleconference will be open to the public. The U.S. Coast Guard will consider NBSAC recommendations as part of the process of identifying regulations, guidance, and collections of information to be repealed, replaced, or modified pursuant to the three Executive Orders discussed above.

DATES: The full Council is scheduled to meet by teleconference on July 21, 2017, from 11 a.m. to noon EST. Please note that this teleconference may adjourn early if the Council has completed its business.

ADDRESSES: To join the teleconference or to request special accommodations, contact the individual listed in the FOR FURTHER INFORMATION CONTACT section no later than 1 p.m. on July 14, 2017. The number of teleconference lines is limited and will be available on a first-come, first-served basis.

Instructions: Submit comments on the task statement at any time, including orally at the teleconference, but if you want Council members to review your comments before the teleconference, please submit your comments no later than July 14, 2017. You must include the words “Department of Homeland Security” and the docket number for this action. Written comments may also be submitted using the Federal e-Rulemaking Portal at http://www.regulations.gov. If you encounter technical difficulties with comment submission, contact the individual listed in the FOR FURTHER INFORMATION CONTACT section of this notice. Comments received will be posted without alteration at http://www.regulations.gov, including any personal information provided. You may review Regulations.gov's Privacy and Security Notice at https://www.regulations.gov/privacyNotice.

Docket Search: For access to the docket or to read documents or comments related to this notice, go to http://www.regulations.gov, insert “USCG-2017-0618” in the Search box, press Enter, and then click on the item you wish to view.

FOR FURTHER INFORMATION CONTACT: Mr. Jeff Ludwig, Alternate Designated Federal Officer of the National Boating Safety Advisory Council, telephone (202) 372-1061, or email at jeffrey.a.ludwig@uscg.mil.

SUPPLEMENTARY INFORMATION:

New Task to the Council

The U.S. Coast Guard is issuing a new task to NBSAC to provide recommendations on whether existing regulations, guidance, and information collections (that fall within the scope of the Council's charter) should be repealed, replaced, or modified. NBSAC will then provide advice and recommendations on the assigned task and submit a final recommendation report to the U.S. Coast Guard.

Background

On January 30, 2017, President Trump issued Executive Order 13771, “Reducing Regulation and Controlling Regulatory Costs.” Under that Executive Order, for every one new regulation issued, at least two prior regulations must be identified for elimination, and the cost of planned regulations must be prudently managed and controlled through a budgeting process. On February 24, 2017, the President issued Executive Order 13777, “Enforcing the Regulatory Reform Agenda.” That Executive Order directs agencies to take specific steps to identify and alleviate unnecessary regulatory burdens placed on the American people. On March 28, 2017, the President issued Executive Order 13783, “Promoting Energy Independence and Economic Growth.” Executive Order 13783 promotes the clean and safe development of our Nation's vast energy resources, while at the same time avoiding agency actions that unnecessarily encumber energy production.

When implementing the regulatory offsets required by Executive Order 13771, each agency head is directed to prioritize, to the extent permitted by law, those regulations that the agency's Regulatory Reform Task Force identifies as outdated, unnecessary, or ineffective in accordance with Executive Order 13777. As part of this process to comply with all three Executive Orders, the U.S. Coast Guard is reaching out through multiple avenues to interested individuals to gather their input about what regulations, guidance, and information collections, they believe may need to be repealed, replaced, or modified. On June 8, 2017, the U.S. Coast Guard issued a general notice in the Federal Register requesting comments from interested individuals regarding their recommendations, 82 FR 26632. In addition to this general solicitation, the U.S. Coast Guard also wants to leverage the expertise of its Federal Advisory Committees and is issuing similar tasks to each of its Committees. A detailed discussion of each of the Executive orders and information on where U.S. Coast Guard regulations, guidance, and information collections are found is in the June 8th notice.

The Task

NBSAC is tasked to:

Provide input to the U.S. Coast Guard on all existing regulations, guidance, and information collections that fall within the scope of the Council's charter.

1. One or more subcommittees/working groups, as needed, will be established to work on this tasking in accordance with the Council charter and bylaws. The subcommittee(s) shall terminate upon the approval and submission of a final recommendation to the U.S. Coast Guard from the parent Council.

2. Review regulations, guidance, and information collections and provide recommendations whether an existing rule, information collection, or guidance should be repealed, replaced or modified. If the Council recommends modification, please provide specific recommendations for how the regulation, information collection, or guidance should be modified. Recommendations should include an explanation on how and to what extent repeal, replacement or modification will reduce costs or burdens to industry and the extent to which risks to health or safety would likely increase.

a. Identify regulations, guidance, or information collections that potentially impose the following types of burden on the industry:

i. Regulations, guidance, or information collections imposing administrative burdens on the industry.

ii. Regulations, guidance, or information collections imposing burdens in the development or use of domestically produced energy resources. “Burden,” for the purposes of compliance with Executive Order 13783, means “to unnecessarily obstruct, delay, curtail, or otherwise impose significant costs on the siting, permitting, production, utilization, transmission, or delivery of energy resources.”

b. Identify regulations, guidance, or information collections that potentially impose the following types of costs on the industry:

i. Regulations, guidance, or information collections imposing costs that are outdated (such as due to technological advancement), or are no longer necessary.

ii. Regulations, guidance, or information collections imposing costs which are no longer enforced as written or which are ineffective.

iii. Regulations, guidance, or information collections imposing costs tied to reporting or recordkeeping requirements that impose burdens that exceed benefits. Explain why the reporting or recordkeeping requirement is overly burdensome, unnecessary, or how it could be modified.

c. Identify regulations, guidance, and information collections that the Council believes have led to the elimination of jobs or inhibits job creation within a particular industry.

3. All regulations, guidance, and information collections, or parts thereof, recommended by the Council should be described in sufficient detail (by section, paragraph, sentence, clause, etc.) so that it can readily be identified. Data (quantitative or qualitative) should be provided to support and illustrate the impact, cost, or burden, as applicable, for each recommendation. If the data is not readily available, the Council should include information as to how such information can be obtained either by the Council or directly by Coast Guard.

Public Participation

All meetings associated with this tasking, both full Council meetings and subcommittee/working groups, are open to the public. A public oral comment period will be held during the July 21, 2017, teleconference. Public comments or questions will be taken at the discretion of the Designated Federal Officer; commenters are requested to limit their comments to 3 minutes. Please contact the individual listed in the FOR FURTHER INFORMATION CONTACT section, to register as a commenter. Subcommittee meetings held in association with this tasking will be announced as they are scheduled through notices posted to http://homeport.uscg.mil/NBSAC and uploaded as supporting documents in the electronic docket for this action, [USCG-2017-0618], at Regulations.gov.

J.F. Williams,
Captain, U.S. Coast Guard, Director of Inspections and Compliance.

[FR Doc. 2017-14255 Filed 7-5-17; 8:45 am]

BILLING CODE 9110-04-P